DEPARTMENT OF ENERGY

Federal Energy Regulatory Commission

[Docket Nos. RP13-238-000; RP12-39-000; RP12-39-001]

Algonquin Gas Transmission; Notice of Technical Conference

Take notice that the Commission will convene a technical conference on Wednesday, January 23, 2013, from 10:00 a.m. to 5:00 p.m. (EDT) in a room to be designated at the offices of the Federal Energy Regulatory Commission, 888 First Street NE., Washington DC 20426.

Pursuant to the Commission's Order Accepting and Suspending, Subject to Refund, Tariff Record Subject to Conditions and Establishing Technical Conference, 141 FERC ¶ 61,160 (Issued November 28, 2012), the technical conference will address the issues raised in Algonquin Gas Transmission's (Algonquin) Fuel Reimbursement proceedings in Docket Nos. RP13-238-000, RP12-39-000, and RP12-39-001. In addition, at the technical conference, parties will be able to comment on the Data Response Algonquin is required to submit by January 4, 2013.

FERC conferences are accessible under section 508 of the Rehabilitation Act of 1973. For accessibility accommodations please send an email to accessibility@ferc.gov or call toll free (866) 208-3372 (voice) or (202) 502-8659 (TTY), or send a fax to (202) 208-2106 with the required accommodations.

All interested persons are permitted to attend. For further information please contact Lisa Long at (202) 502-8691 or by email at lisa.long@ferc.gov.

Dated: December 10, 2012.
Kimberly D. Bose,
Secretary.

[FR Doc. 2012-30263 Filed 12-14-12; 8:45 am]

BILLING CODE 6717-01-P